DEPARTMENT OF HEALTH AND HUMAN SERVICES

National Institutes of Health

Proposed Collection; 60-Day Comment Request; National Institutes of Health Workplace Civility and Equity Survey (Office of the Director)

AGENCY: National Institutes of Health, HHS.

ACTION: Notice.

SUMMARY: In compliance with the requirement of the Paperwork Reduction Act of 1995 to provide opportunity for public comment on proposed data collection projects, the National Institutes of Health, Office of the Director (OD) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Sara Mills, Program Manager, Workforce Planning and Analytics Section, 45 Center Drive, Suite 1AF08, Rockville, Maryland, 20892 or call non-toll-free number (301) 496-6744 or Email your request, including your address to: NIHWorkplaceCES@mail.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: NIH Workplace Civility and Equity Survey, 0925-NEW, expiration date XX/XX/XXXX, National Institutes of Health Office of the Director (OD), National Institutes of Health (NIH).

Need and Use of Information Collection: The purpose of this survey is to assess the workplace climate and evaluate the prevalence of harassment and discrimination at the NIH. Specifically, the results of this survey will facilitate a data driven analysis of the types of harassment and/or discrimination that may be occurring or is perceived to be occurring, by its workers. To this end, where applicable, NIH will leverage these findings to identify areas within NIH that require further investigation, thereby providing opportunities for targeted prevention or mitigation strategies.

OMB approval is requested for 3 years. There are no costs to respondents other than their time. The total estimated annualized burden hours are 7,879.

Estimated Annualized Burden Hours
Type of respondent | Number of respondents | Number of responses per respondent | Average time per response (in hours) | Total annual burden hour
NIH Staff | 31,517 | 1 | 15/60 | 7,879
Total | 31,517 | 31,517 |  | 7,879

Dated: April 20, 2022.
Tara A. Schwetz,
Acting Principal Deputy Director, National Institutes of Health.

[FR Doc. 2022-08985 Filed 4-26-22; 8:45 am]

BILLING CODE 4140-01-P